DEPARTMENT OF JUSTICE

Notice of Lodging of Proposed Consent Decree Under the Comprehensive Environmental Response, Compensation, and Liability Act

On November 1, 2016, the Department of Justice lodged a proposed consent decree with the United States District Court for the District of Arizona in the lawsuit entitled United States v. WestRock CP, LLC, Civil Action No. CV-16-08247-PCT-PGR.

The United States alleged that WestRock CP, LLC—as the successor to Southwest Forest Industries, Inc.—is liable under Section 107 of the Comprehensive Environmental Response, Compensation, and Liability Act (CERCLA), 42 U.S.C. 9607, for reimbursement of response costs incurred or to be incurred by the U.S. Environmental Protection Agency in connection with releases or threatened releases of hazardous substances into the environment at or from land associated with a former wood-treating facility located approximately 1 mile northeast of Prescott, Arizona and on the Yavapai-Prescott Indian reservation. To date, unreimbursed response costs have totaled approximately $6.2 million. Under the proposed consent decree and consistent with an earlier bankruptcy settlement agreement, the United States will be allowed a general unsecured claim in the sum of $2.8 million in the Chapter 11 bankruptcy case involving WestRock CP, LLC's predecessor Smurfit-Stone Container Corporation. The allowed claim will be satisfied as a cash distribution of $1,602,877.46; 56,064 shares of WestRock Company stock; and 9,344 shares of Ingevity Corporation stock. In return, the United States covenants not to sue or take administrative action against WestRock CP, LLC pursuant to Sections 106 and 107(a) of CERCLA, 42 U.S.C. 9606 and 9607(a), and Section 7003 of the Resource Conservation and Recovery Act (RCRA), 42 U.S.C. 6973, regarding the site.

The publication of this notice opens a period for public comment on the consent decree. Comments should be addressed to the Assistant Attorney General, Environment and Natural Resources Division, and should refer to United States v. WestRock CP, LLC, D.J. Ref. No. 90-11-3-09733/3. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $6.00 (25 cents per page reproduction cost) payable to the United States Treasury.

Henry Friedman,
Assistant Section Chief, Environmental Enforcement Section, Environment and Natural Resources Division.

[FR Doc. 2016-27229 Filed 11-10-16; 8:45 am]

BILLING CODE 4410-15-P